POSTAL REGULATORY COMMISSION

[Docket No. C2024-13; Presiding Officer's Ruling No. 4]

Complaint

AGENCY: Postal Regulatory Commission.

ACTION: Notice.

SUMMARY: The Commission is providing notice that a prehearing videoconference is being scheduled and setting a deadline to file a notice of intervention. This notice also sets out additional case management procedures.

DATES: Live WebEx Videoconference: January 16, 2025, at 10 a.m., eastern daylight time, virtual; Notice of Intervention due: December 2, 2024.

ADDRESSES: Submit notices of intervention electronically via the Commission's Filing Online system at https://www.prc.gov. Persons interested in intervening who cannot submit their views electronically should contact the person identified in the FOR FURTHER INFORMATION CONTACT: David A. Trissell, General Counsel, at 202-789-6820.

FOR FURTHER INFORMATION CONTACT: David A. Trissell, General Counsel, at 202-789-6820.

SUPPLEMENTARY INFORMATION:

I. Procedural Schedule

II. Ruling

I. Procedural Schedule

The deadline to file a notice of intervention pursuant to 39 CFR 3010.142 is December 2, 2024.

Pursuant to Order No. 7507, the Presiding Officer shall conduct limited discovery for the purpose of determining disputed issues of fact in this case.¹ The parties may request that the Presiding Officer obtain specific discovery but may not independently propound discovery on each other. Order No. 7507 at 12. The parties shall email their initial information requests to the Presiding Officer (and cc'ing the other party) no later than Thursday, December 12, 2024, at 5:00 p.m.

¹ Order Partially Denying United States Postal Service's Motion to Dismiss and Notice of Limited Formal Proceedings, September 12, 2024, at 12 (Order No. 7507).

A prehearing videoconference is scheduled to be conducted before the Presiding Officer on January 16, 2025, at 10:00 a.m. Among other things, this videoconference will discuss procedures for the presentation of evidence and legal arguments, the need for any additional information requests, as well as the resolution of any pending discovery-related disputes.

II. Additional Case Management Procedures

The parties must make a good faith effort to confer with the opposing party to attempt to resolve any discovery dispute before filing any motions related to discovery. The Presiding Officer will not entertain a motion to compel discovery, motion for sanctions, motion for protective order, or any other discovery motions until this good faith effort has been made. If this good faith effort is unsuccessful, the motion shall (1) state that a good faith effort has been made to resolve the dispute, (2) attach each disputed discovery request, answer, and objection (if applicable), (3) provide available dates and times for a hearing to be conducted by videoconference, and (4) concisely state the relief sought, the basis therefor, and the authority relied upon. Any party opposing the motion shall file a response no later than 7 days after the motion is filed. See 39 CFR 3010.160(b).

The Presiding Officer may waive or modify the terms of his order for good cause shown.

III. Ruling

1. The deadline to file a notice of intervention pursuant to 39 CFR 3010.142 is December 2, 2024.

2. A prehearing videoconference will be conducted before the Presiding Officer on January 16, 2025, at 10:00 a.m.

3. The parties and counsel shall follow the procedural schedule and case management procedures established by this Presiding Officer's Ruling.

4. The Secretary shall arrange for publication of this ruling (or abstract thereof) in the Federal Register.

Erica A. Barker,
Secretary.

[FR Doc. 2024-25831 Filed 11-6-24; 8:45 am]

BILLING CODE 7710-FW-P